DEPARTMENT OF HEALTH AND HUMAN SERVICES

Centers for Medicare & Medicaid Services

[Document Identifier: CMS-10416 and CMS-10540]

Agency Information Collection Activities: Submission for OMB Review; Comment Request

AGENCY: Centers for Medicare & Medicaid Services.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected and the use of automated collection techniques or other forms of information technology to minimize the information collection burden.

DATES: Comments on the collection(s) of information must be received by the OMB desk officer by September 26, 2018.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

Information Collection

1. Type of Information Collection Request: Reinstatement with change of a previously approved collection; Title of Information Collection: Blueprint for Approval of State-Based Health Insurance Exchanges; Use: All States (including the 50 States, the Territories, and the District of Columbia herein referred to as States) have the opportunity under Section 1311(b) of the Affordable Care Act to establish Exchanges, subject to certification (or “Approval”) that the Exchange meets Federal standards and will be able to offer health care coverage for the following plan year, beginning January 1, 2014. The original information collection request for the State Exchange Blueprint Data Collection Tool specified a single reporting tool for all the various exchange types and was partially paper based. Subsequent revisions simplified the tool by having separate collection tools for each type of exchange and on-line implementation of the tool to reduce the burden. This revision updates the tool to reflect current State Exchange model options (a State-based Exchange (SBE) or a State-based Exchange on the Federal Platform (SBE-FP,)) program requirements, updated regulatory requirements promulgated through the 2017, 2018 and the 2019 Payment Notice, as well as through the Marketplace Stabilization Rule, and replaces the requirement for document and evidence submissions with attestations across all sections to further reduce the burden.

Given the innovative nature of Exchanges and the statutorily-prescribed relationship between the secretary and States in their development and operation, it is critical that the Secretary work closely with States to provide necessary guidance and technical assistance to ensure that States can meet the prescribed timelines, federal requirements, and goals of the statute.

States seeking to establish a SBE or SBE-FP must build an Exchange that meets the requirements set out in Section 1311(d) of the Affordable Care Act and pursuant to CFR 155.105, FFE states that seek to operate an SBE or SBE-FP must complete and submit an Exchange Blueprint Application. The Blueprint Application documents that an Exchange will meet the legal and operational requirements associated with the Exchange model a state chooses to pursue. As part of its Blueprint submission, a state will also agree to demonstrating operational readiness to implement and execute the required Exchange activities described in the Blueprint Application. Form Number: CMS-10416 (OMB control number: 0938-1172); Frequency: Once; Affected Public: State, Local, or Tribal governments; Number of Respondents: 21; Total Annual Responses: 7; Total Annual Hours: 221. (For policy questions regarding this collection contact Christy Woods at 301-492-5140.)

2. Type of Information Collection Request: Revision of a currently approved collection. Title of Information Collection: Quality Improvement Strategy Implementation Plan and Progress Form. Use: Section 1311(c)(1)(E) of the Patient Protection and Affordable Care Act requires qualified health plans (QHPs) offered through an Exchange must implement a quality improvement strategy (QIS) as described in section 1311(g)(1). Section 1311(g)(3) of the Patient Protection and Affordable Care Act specifies the guidelines under Section 1311(g)(2) shall require the periodic reporting to the applicable Exchange the activities that a qualified health plan has conducted to implement a strategy as described in section 1311(g)(1). CMS intends to have eligible QHP issuers complete the QIS Implementation Plan and Progress Form annually for initial certification and subsequent annual updates of progress in implementation of their strategy. The form will include topics to assess an issuer's compliance in creating a payment structure that provides increased reimbursement or other incentives to improve the health outcomes of plan enrollees, prevent hospital readmissions, improve patient safety and reduce medical errors, promote wellness and health, and reduce health and health care disparities, as described in Section 1311(g)(1) of the Patient Protection and Affordable Care Act.

The QIS Implementation Plan and Progress Form will allow: (1) The Department of Health & Human Services (HHS) to evaluate the compliance and adequacy of QHP issuers' quality improvement efforts, as required by Section 1311(c) of the Patient Protection and Affordable Care Act, and (2) HHS will use the issuers' validated information to evaluate the issuers' quality improvement strategies for compliance with the requirements of Section 1311(g) of the Patient Protection and Affordable Care Act. Form Number: CMS-10540 (OMB Control Number: 0938-1286); Frequency: Annually; Affected Public: Public sector (Individuals and Households), Private sector (Business or other for-profits and Not-for-profit institutions); Number of Respondents: 250; Total Annual Responses: 250; Total Annual Hours: 12,000. (For policy questions regarding this collection contact Nidhi Singh Shah at 301-492-5110).

Dated: August 21, 2018.
William N. Parham, III,
Director, Paperwork Reduction Staff, Office of Strategic Operations and Regulatory Affairs.

[FR Doc. 2018-18437 Filed 8-24-18; 8:45 am]

BILLING CODE 4120-01-P